DEPARTMENT OF HEALTH AND HUMAN SERVICES

Health Resources and Services Administration

Office of Rural Health Policy; Statement of Delegation of Authority

On February 13, 1991, the Assistant Secretary for Health, of the Department of Health and Human Services, delegated to the Administrator, Health Resources and Services Administration (HRSA), with authority to redelegate, all of the authority under Title III, Part D of the Public Health Service Act (42 U.S.C. 254 et seq.), as amended, for Primary Health Care.

Notice is hereby given that I have delegated to the Associate Administrator, and the Deputy Associate Administrator, Office of Rural Health Policy, HRSA, the authority vested in the Administrator under Title III, Part D, Section 330L of the Public Health Service Act (42 U.S.C. 245c-18), as amended, pertaining to the functions assigned to the Office for the Advancement of Telehealth, Office of Rural Health Policy.

This authority may be redelegated.

This delegation excludes the authority to make awards and shall be exercised in accordance with the Department's and HRSA's applicable policies, procedures, and guidelines.

I hereby affirm and ratify any actions taken by the Associate Administrator and Deputy Associate Administrator, Office of Rural Health Policy, or other HRSA officials, which involved the exercise of these authorities prior to the effective date of this delegation.

This delegation is effective upon date of signature.

Dated: July 13, 2010.
Mary K. Wakefield,
Administrator.

[FR Doc. 2010-17836 Filed 7-21-10; 8:45 am]

BILLING CODE 4165-15-P